DEPARTMENT OF VETERANS AFFAIRS

[OMB Control No. 2900-0459]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before November 16, 2000.

For Further Information or a Copy of the Submission Contact: Denise McLamb, Information Management Service (045A4), Department of Veterans Affairs, 810 Vermont Avenue, NW, Washington, DC 20420, (202) 273-8030 or FAX (202) 273-5981. Please refer to “OMB Control No. 2900-0459.”

SUPPLEMENTARY INFORMATION: Title: Property Management Consolidated Invoice, VA Form 26-8974.

OMB Control Number: 2900-0459.

Type of Review: Reinstatement, with change, of a previously approved collection for which approval has expired.

Abstract: The Consolidated Property Management Invoice is computer-generated by VA and sent to management brokers monthly to obtain management brokers' bills for reimbursement of expenses and payment of fees associated with management of VA-acquired properties.

An agency may not conduct or sponsor, and a person is not required to respond to a collection of information unless it displays a currently valid OMB control number. The Federal Register Notice with a 60-day comment period soliciting comments on this collection of information was published on November 29, 1999, at page 66696.

Affected Public: Business or other for-profit.

Estimated Annual Burden: 44,000 hours.

Estimated Average Burden Per Respondent: 10 minutes.

Frequency of Response: Monthly.

Estimated Number of Respondents: 1,080.

Estimated Number of Responses: 22,000.

Send comments and recommendations concerning any aspect of the information collection to VA's OMB Desk Officer, Allison Eydt, OMB Human Resources and Housing Branch, New Executive Office Building, Room 12035, Washington, DC 20503 (202) 395-4650. Please refer to “OMB Control No. 2900-0459” in any correspondence.

Dated: September 20, 2000.
By direction of the Acting Secretary.
Donald L. Neilson,
Director, Information Management Service.

[FR Doc. 00-26662 Filed 10-16-00; 8:45 am]

BILLING CODE 8320-01-P